ENVIRONMENTAL PROTECTION AGENCY

40 CFR Part 52

[EPA-R01-OAR-2019-0218; FRL-9996-99-Region 1]

Air Plan Approval; Maine; Reasonably Available Control Technology for the 2008 Ozone Standard

AGENCY: Environmental Protection Agency (EPA).

ACTION: Final rule.

SUMMARY: The Environmental Protection Agency (EPA) is approving State Implementation Plan (SIP) revisions submitted by the State of Maine for purposes of implementing the 2008 Ozone National Ambient Air Quality Standards (NAAQS). The revisions consist of a demonstration that Maine meets the requirements of reasonably available control technology (RACT) for volatile organic compounds (VOCs), set forth by the Clean Air Act (CAA or Act), with respect to the 2008 Ozone standards. Additionally, we are approving a related regulation that limits air emissions of VOCs from certain industrial sources that use organic solvents in cleaning activities, and withdrawing several previously approved source-specific RACT requirements for sources that have ceased operation. This action is being taken under the Clean Air Act.

DATES: This rule is effective on September 6, 2019.

ADDRESSES: EPA has established a docket for this action under Docket Identification No. EPA-R01-OAR-2019-2018. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

FOR FURTHER INFORMATION CONTACT: David L. Mackintosh, Air Quality Branch, U.S. Environmental Protection Agency, EPA Region 1, 5 Post Office Square—Suite 100, (Mail code 05-2), Boston, MA 02109-3912, tel. 617-918-1584, email Mackintosh.David@epa.gov.

SUPPLEMENTARY INFORMATION: Throughout this document whenever “we,” “us,” or “our” is used, we mean EPA.

Table of Contents

I. Background and Purpose

II. Public Comment

III. Final Action

IV. Incorporation by Reference

V. Statutory and Executive Order Reviews

I. Background and Purpose

On June 11, 2019 (84 FR 27046), EPA issued a notice of proposed rulemaking (NPRM) for the State of Maine. In the NPRM, EPA proposed approval of SIP revisions submitted by Maine on August 31, 2018. The SIP submittal included a certification that Maine has addressed its RACT requirements for the 2008 Ozone NAAQS, a request for EPA approval of 06-096 Code of Maine Rules (CMR) Chapter 166, “Industrial Cleaning Solvents,” to address EPA's 2006 CTG for Industrial Cleaning Solvents, and a request that EPA remove from the SIP several previously approved source-specific RACT requirements for facilities that no longer exist or, in one case, for a facility that no longer operates the process controlled by the source-specific requirements.

The NPRM provides the rationale for EPA's proposed approval, which will not be restated here.

II. Public Comment

EPA received one comment in response to the NPRM. The comment is outside the scope of a RACT SIP action, does not explain (or provide a legal basis for) how the proposed action should differ in any way, and makes no specific mention of the proposed action; it is not germane.

III. Final Action

EPA is approving 06-096 CMR Chapter 166, “Industrial Cleaning Solvents,” into the Maine SIP at 40 CFR 52.1020(c), “EPA approved regulations.” EPA is approving Maine's SIP revision on the basis that Maine has met the RACT requirements for the 2008 8-hour Ozone NAAQS as set forth by sections 182(b) and 184(b)(2) of the CAA. In addition, EPA is approving “Reasonably Available Control Technology (RACT) State Implementation Plan (SIP) Revision Under the 2008 8-hour Ozone National Ambient Air Quality Standard (NAAQS),” as having satisfied the 2008 8-hour NAAQS RACT requirements, and as an addition to the Maine SIP at 40 CFR 52.1020(e), “Nonregulatory”.

EPA is withdrawing the following previously-approved source-specific RACT requirements for “Prime Tanning Company, York County, Berwick, Maine” (two approvals); “JJ Nissen Baking Company, Cumberland County, Portland Maine”; “Georgia Pacific Corporation, Washington County, Woodland, Maine”; “Moosehead Manufacturing Company, Piscataquis County, Dover-Foxcroft, Maine”; “Moosehead Manufacturing Company, Piscataquis County, Monson, Maine”; “Dexter Shoe Company, Penobscot County, Dexter, Maine” (two approvals); and “McCain Foods USA, Inc., Tatermeal Facility”, and removing all entries for these facilities which are currently listed in 40 CFR 52.1020(d) “EPA-approved State Source specific requirements.”

IV. Incorporation by Reference

In this rule, the EPA is finalizing regulatory text that includes incorporation by reference. In accordance with requirements of 1 CFR 51.5, the EPA is finalizing the incorporation by reference of the Code of Maine Rules described in the amendments to 40 CFR part 52 set forth below. EPA is also removing provisions from the “EPA-approved State Source specific requirements” table from the Maine State Implementation Plan at 40 CFR 52.1020(d), which is incorporated by reference in accordance with the requirements of 1 CFR part 51. The EPA has made, and will continue to make, these documents generally available through https://www.regulations.gov and at the EPA Region 1 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• This action is not an Executive Order 13771 regulatory action because this action is not significant under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 7, 2019. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: July 22, 2019.
Deborah Szaro,
Acting Regional Administrator, EPA Region 1.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart U—Maine

2. Section 52.1020 is amended by:

i. In table (c) by adding a new state citation “Chapter 166, Industrial Cleaning Solvents” in numerical order,

ii. In table (d) by removing the entries for “Prime Tanning Company, York County, Berwick, Maine” (remove both entries), “JJ Nissen Baking Company, Cumberland County, Portland Maine”, “Georgia Pacific Corporation, Washington County, Woodland, Maine”, “Moosehead Manufacturing Company, Piscataquis County, Dover-Foxcroft, Maine”, “Moosehead Manufacturing Company, Piscataquis County, Monson, Maine”, “Dexter Shoe Company, Penobscot County, Dexter, Maine” (remove both entries), and “McCain Foods USA, Inc., Tatermeal Facility”; and

iii. In table (e) by adding a new provision for “Reasonably Available Control Technology (RACT) for the 2008 8-hour Ozone National Ambient Air Quality Standard” to read as follows:

§ 52.1020 Identification of plan.

* * * * *

(c) * * *

EPA-Approved Maine Regulations
State citation | Title/subject | State effective date | EPA approval date EPA approval date and citation ¹ | Explanations
* * * * * * *
Chapter 166 | Industrial Cleaning Solvents | 8/22/2018 | 8/7/2019 [Insert Federal Register citation]
* * * * * * *
¹ In order to determine the EPA effective date for a specific provision listed in this table, consult the Federal Register notice cited in this column for the particular provision.

* * * * *

(e) * * *

Maine Non Regulatory
Name of non regulatory SIP provision | Applicable geographic or nonattainment area | State submittal date/effective date | EPA approved date ³ | Explanations
* * * * * * *
Reasonably Available Control Technology (RACT) for the 2008 8-hour Ozone National Ambient Air Quality Standard | Statewide | Submitted 9/4/2018 | 8/7/2019 [Insert Federal Register citation]
³ In order to determine the EPA effective date for a specific provision listed in this table, consult the Federal Register notice cited in this column for the particular provision.

[FR Doc. 2019-16203 Filed 8-6-19; 8:45 am]

BILLING CODE 6560-50-P